DEPARTMENT OF ENERGY

Federal Energy Regulatory Commission

[Docket No. IC14-4-000]

Commission Information Collection Activities (FERC-73); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-73 (Oil Pipeline Service Life Data).

DATES: Comments on the collection of information are due March 24, 2014.

ADDRESSES: You may submit comments (identified by Docket No. IC14-4-000) by either of the following methods:

• eFiling at Commission's Web site: http://www.ferc.gov/docs-filing/efiling.asp

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-73, Oil Pipeline Service Life Data.

OMB Control No.: 1902-0019.

Type of Request: Three-year extension of the FERC-73 information collection requirements with no changes to the current reporting requirements.

Abstract: The Commission has authority over interstate oil pipelines as stated in the Interstate Commerce Act, 49 U.S.C. 6501, et al. As part of the information necessary for the subsequent investigation and review of an oil pipeline company's proposed depreciation rates, the pipeline companies are required to provide service life data as part of their data submissions if the proposed depreciation rates are based on the remaining physical life calculations. This service life data is submitted on FERC Form No. 73, “Oil Pipeline Service Life Data”. The information collected under the requirements of FERC Form No. 73 is used by the Commission to implement the statutory provisions of Sections 306 and 402 of the Department of Energy Organization Act, 42 U.S.C. 7155 and 7172, and Executive Order No. 12009, 42 FR 46277 (September 13, 1977).¹

¹ For FERC Form No. 73 filing instructions and materials, please see http://www.ferc.gov/docs-filing/forms.asp#form73.

The data submitted are used by the Commission to assist in the selection of appropriate service lives and book depreciation rates. Book depreciation rates are used by oil pipeline companies to compute the depreciation portion of their operating expense which is a component of their cost of service which in turn is used to determine the transportation rate to assess customers. FERC staff's recommended book depreciation rates become legally binding when issued by Commission order. These rates remain in effect until a subsequent review is requested and the outcome indicates that a modification is justified. The Commission implements these filings in 18 CFR parts 347 and 357.

Type of Respondents: Oil pipeline companies.

Estimate of Annual Burden ²: The Commission estimates the total Public Reporting Burden for this information collection as:

² The Commission defines burden as the total time, effort, or financial resources expended by persons to generate, maintain, retain, or disclose or provide information to or for a Federal agency. For further explanation of what is included in the information collection burden, reference 5 Code of Federal Regulations 1320.3.

FERC Form No. 73, Oil Pipeline Service Life Data
| Number of respondents | Number of responses per respondent | Total number of responses | Average burden hours per response | Estimated total annual burden
| (A) | (B) | (A) × (B) = (C) | (D) | (C) × (D)
Oil Pipelines Undergoing Investigation or Review | 3 | 1 | 3 | 40 | 120

The total estimated annual cost burden to respondents is $8,400 [120 hours * $70/hour = $8,400 ³]

³ $70/hour is the average FERC employee salary plus benefits. We assume that respondents to this collection are similarly situated in terms of salary and benefits.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: January 14, 2014.
Kimberly D. Bose,
Secretary.

[FR Doc. 2014-01057 Filed 1-17-14; 8:45 am]

BILLING CODE 6717-01-P